DEPARTMENT OF TRANSPORTATION

National Highway Traffic Safety Administration

[Docket No. NHTSA-2024-0024]

Agency Information Collection Activities; Submission to the Office of Management and Budget for Review and Approval; Motorcycle Crash Avoidance Technology Review

AGENCY: National Highway Traffic Safety Administration (NHTSA), Department of Transportation (DOT).

ACTION: Notice and request for comments on a request for approval of a new information collection.

SUMMARY: In compliance with the Paperwork Reduction Act of 1995 (PRA), this notice announces that the Information Collection Request (ICR) summarized below will be submitted to the Office of Management and Budget (OMB) for review and approval. This document describes a new collection of information for which NHTSA intends to seek OMB approval titled “Motorcycle Crash Avoidance Technology Review.” The new information collection would be a one-time, voluntary, and anonymous survey of motorcycle riders to obtain consumer-reported feedback and perspectives on the use and availability of advanced crash avoidance motorcycle technologies. A Federal Register Notice with a 60-day comment period soliciting comments on the following information collection was published on June 12, 2024. Three comments were received during the comment period. This 30-day notice includes a summary of those comments and responses. NHTSA has addressed these comments, but there are no resulting changes to the estimated burden.

DATES: Comments must be submitted on or before May 30, 2025.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Mr. Ryan Rahimpour, NHTSA, Office of Vehicle Safety Research, (202) 366-8756, W46-432, U.S. Department of Transportation, 1200 New Jersey Avenue SE, Washington, DC 20590, Ryan.rahimpour@dot.gov.

SUPPLEMENTARY INFORMATION: Under the PRA (44 U.S.C. 3501 et seq.), a Federal agency must receive approval from OMB before it collects certain information from the public, and a person is not required to respond to a collection of information by a Federal agency unless the collection displays a valid OMB control number. In compliance with these requirements, this notice announces that the following information collection request will be submitted OMB.

Title: Motorcycle Crash Avoidance Technology Review.

OMB Control Number: New.

Form Number(s): Eligibility Questionnaire, NHTSA Form 1811; Informed Consent, NHTSA Form 1812; Full Questionnaire, NHTSA Form 1813.

Type of Request: New information collection.

Type of Review Requested: Regular.

Length of Approval Requested: One year from date of approval.

Summary of the Collection of Information: NHTSA is seeking approval to conduct three voluntary, one-time information collections that would be part of a survey of motorcycle riders to obtain consumer-reported feedback and perspectives on the use and availability of advanced crash avoidance motorcycle technologies. These information collections will be administered to a convenience sample of motorcycle riders and will collect information on current consumer perceptions of the utility and availability of the technologies, including consumer willingness to use advanced safety technology on motorcycles and how various contextual factors will impact that willingness to use. This collection is part of a larger effort to gather data and summarize the scope of motorcycle crashes, estimate the prevalence of different crash avoidance technologies available in the fleet, understand the crash avoidance technologies under development, and identify perspectives on advanced motorcycle technologies.

The three information collections include (1) an eligibility questionnaire; (2) an informed consent form; and (3) the survey questionnaire. The survey will ask respondents for background information on themselves (demographics, riding behavior, and safety habits like helmet use) to gauge whether knowledge and beliefs about motorcycle systems differ by any of these variables. The survey will ask respondents about their knowledge and beliefs regarding motorcycle safety technology using open-ended questions. These questions will assess consumer willingness to use various motorcycle technologies and their perspectives on the impact of various contextual factors (e.g., personal beliefs, mandates, costs).

• Technologies include braking systems (anti-lock braking, combined braking, automatic emergency braking); warning systems (lane departure, blind spot, curve speed, forward collision, and rear collision); and control systems (stability control and wheelie control).

• Open-ended questions aim to gather unbiased perspectives and allow a measure of accuracy of information available to consumers and users. Additionally, overall thoughts on technologies provide insight into user acceptance and can be evaluated by demographics and user characteristics.

• Willingness to purchase and use technologies provides perspective for incentivized incorporation of technologies and potential disengagement or modification to make inoperative.

• Cost considerations provide insight for potential policy decisions as they relate to cost-benefit analyses.

Description of the Need for the Information and Proposed Use of the Information: NHTSA's mission is to save lives, prevent injuries, and reduce the economic costs of road traffic crashes through education, research, safety standards, and enforcement activity. Subchapter V of Chapter 301 of Title 49 of the United States Code (U.S.C.) authorizes the Secretary of Transportation to conduct “motor vehicle safety research, development, and testing programs and activities, including activities related to new and emerging technologies that impact or may impact motor vehicle safety” (49 U.S.C. 30182). Pursuant to Section 1.95 of Title 49 of the Code of Federal Regulations (CFR), the Secretary has delegated this authority to NHTSA.

As crash avoidance technologies advance, they have the potential to reduce the loss of life in roadway crashes. NHTSA is looking to gather information regarding consumer use and understanding of current advanced safety technology on motorcycles. The results of the information collection will help NHTSA better understand consumer-based barriers and facilitators to advanced motorcycle crash avoidance technology deployment. By understanding these barriers and facilitators, NHTSA can better develop related policy and consumer education materials to improve safety through the increased uptake and safe use of advanced technologies for motorcycles.

60-Day Notice: A Federal Register notice with a 60-day comment period soliciting public comments on the following information collection was published on June 12, 2024 (89 FR 50042) to which NHTSA received three comments.

The Insurance Institute for Highway Safety (IIHS) welcomed “any addition to the current state of knowledge in motorcyclist safety, [and they] strongly discourage[d] NHTSA from delaying possible rulemaking on motorcycle ABS by waiting for these survey results.” IIHS further supported public comment in the opportunity for individuals or organizations to provide feedback, regardless of selection for participation in the survey. IIHS referenced and appended its existing petition for rulemaking on FMVSS No. 122 and requested that the petition be granted. IIHS did not comment on the burden calculations or methodology of the information collection at hand.

Response: NHTSA acknowledges support for the collection of additional information regarding motorcyclist safety. The results of the consumer survey may be considered during contemplation of future research and Agency activities. NHTSA is reviewing the IIHS petition as part of the standard regulatory process. Because IIHS did not comment regarding burden calculation or methodology, no changes have been made to the survey design or instrument based on IIHS's comment.

The American Motorcyclist Association (AMA) provided a written comment in which they “support the National Highway Traffic Safety Administration seeking public comments on issues regarding motorcycle safety and safety technology.” The AMA emphasized the importance of direct feedback from the motorcycling community and expressed some previously stated concerns regarding emerging technology and interactions with motorcycles and motorcyclists. Specifically, AMA highlighted the concern regarding a lack of data on how AEB systems would respond to other vehicle types such as heavy vehicles or motorcycles, as included in NHTSA's May 2024 Final Rule on automatic emergency braking. Additionally, AMA suggested that information to be collected in the survey and motorcycle safety recommendations are available through other efforts organized by NHTSA. AMA referenced the first of seven meetings to update the National Agenda for Motorcycle Safety (NAMS). They also referenced the newly reestablished Motorcyclist Advisory Council (MAC), which will “coordinate and advise the Secretary of Transportation, NHTSA, and the Federal Highway Administration on transportation issues specific to motorcyclists.”

Regarding survey design, the AMA stated the previous notice did not indicate a survey design that equal distributes participants across segments of the motorcycling community. They noted that responses may differ depending on the number of years riding, number of miles traveled per year, type of motorcycle, on or off-road riding, engine size, safety training history, and crash history.

Response: The MAC and NAMS are part of NHTSA's overall strategy for improving motorcycle safety. These initiatives work together to ensure that the diverse motorcycling community is well-represented, including fair and comprehensive inclusion of all riding segments. Both efforts were at the initial stages of activity in 2024 and scope and expected deliverables for each are currently pending review in the Office of the Secretary. The Agency benefits by initiating this collection of information from consumers while the NAMS update and the MAC are underway. This survey will collect consumer feedback on new and emerging safety technologies for motorcycles—information currently unavailable to the agency. The efforts and breadth of information collected through this survey, the NAMS update and the MAC can complement and support one another.

As stated, the AMA noted concerns regarding differences in response based on segments of the motorcycling community. The survey is not designed to stratify respondents by population segments, but the survey is collecting information about specific rider characteristics and history. The analysis will take these data into consideration post collection. Table 1 below identifies the data of interest discussed by the AMA, whether the survey originally included this information for collection and analysis, if the survey instrument has been adjusted to accommodate for that data, and if not, the justification for not including that data collection.

Table 1—Recommendations by the American Motorcyclist Association
AMA data of interest | Originally in survey | Change to survey
Number of years respondent has ridden | No | Added to the survey instrument.
Miles travelled per year | No | Added to the survey instrument.
Type of motorcycle | Yes
On- or off-road riding | Yes
Engine size | No | Added to the survey instrument.
Safety training history | No | Added to the survey instrument.
Crash history | Yes

NHTSA and its research partner have modified the survey questionnaire based on the above feedback from AMA. While four questions were added to the instrument, NHTSA does not believe this will change the average time of survey completion; therefore, these modifications will not result in any changes in the burden estimates.

The Motorcycle Riders Foundation (MRF) “applauds the National Highway Traffic Safety Administration for attempting to understand the views of motorcyclists regarding crash avoidance technology.” Noting that “motorcyclists are an afterthought,” the organization states appreciation in seeking to survey riders.

The MRF subsequently offers two key points regarding the proposed survey. The first is that they believed that questions or phrasing that push respondents to side with certain safety features should be avoided, encouraging a fair and neutral survey. Secondly, the MRF noted the diversity of the motorcycling community and suggests that the respondents be selected to include specific rider characteristics. Table 2 provides those data of interest included in the MRF comment. In a related statement, the MRF stated concern with the selected sample size of 300 as potentially not representing segments of the motorcycling community. The MRF did not directly request an increase in sample size but acknowledged the increase in information if the sample size were expanded.

Response: NHTSA has coordinated with its research partner to ensure that the survey questions are objective, unbiased, and representative. With regard to inclusion of a broad representation of the motorcycling community, NHTSA is not collecting data in a stratified sampling methodology; rather, the agency is using a self-selection method of riders that collects characteristics to be used during data analysis. The information collection is a convenience sample and not designed as a nationally representative sample, thus the 300 completed surveys are believed to be sufficient to meet the objectives of the study. Table 2 shows the data of interest included in the MRF comment, an indication of whether that data was included for collection in the original survey instrument, and whether the survey instrument will change based on this comment.

Table 2—Recommendations by the Motorcycle Riders Foundation
MRF data of interest | Originally in survey | Change to survey
Type of motorcycles the respondent currently rides | Yes
Engine size | No | Added to the survey instrument.
Number of motorcycles owned | Yes
Number of years riding | No | Added to the survey instrument.
Average number of miles ridden annually | No | Added to the survey instrument.
Motorcycle safety training history | No | Added to the survey instrument.
Geographic location | Yes
Age | Yes
Crash history | Yes

NHTSA and its research partner will modify the survey questionnaire based on the above feedback from MRF. The four questions added to the survey instrument are the same questions identified by the AMA. There are no additional questions added in response to the MRF comments beyond those; therefore, no additional modifications have been made to the questionnaire, and no resulting changes have been made to the burden estimates.

Affected Public: General public with motorcycle experience.

Estimated Number of Respondents: Initial outreach for respondents is targeted to reach 700 individuals. 420 individuals will move forward to the informed consent document and the survey questionnaire.

Frequency: Once.

Estimated Annual Burden Hours: 124 hours.

This information collection request involves three information collections: (1) an eligibility questionnaire; (2) an informed consent form; and (3) the survey questionnaire. The administration of each of these information collections is completely electronic as well as the solicitation of respondents through targeted advertisements and motorcycle community web pages. The survey involves a convenience sample and will remain available for completion until a sample size of 300 completed surveys is achieved.

Initial outreach for respondents is targeted to reach 700 individuals willing to initiate the survey (in order to arrive at the final desired sample size of 300). The landing page for the survey is a three-question eligibility questionnaire, with an estimated time for completion of one minute. Because this is a new format for gathering this type of information from this community, the research team estimates that 60 percent of the individuals who take the eligibility questionnaire will qualify to move forward. Therefore, 420 individuals will move forward to the informed consent document. It is assumed that all 420 individuals will complete the informed consent, which is also expected to take an average of one minute.

While all 420 respondents are expected to move forward for the survey questionnaire, the research team expects some non-response and some attrition of respondents. The research team is looking for 300 completed questionnaires, so the 420 respondents are considered the maximum number of respondents needed to arrive at 300 completed questionnaires. A completed survey questionnaire is estimated to take on average 15 minutes. As noted in the discussion of the public comments, four questions were added to the survey questionnaire in response to the comments. However, these questions are not expected to change the estimated average completion time of the survey. The estimate of an average of 15 minutes of completion was, and remains, a generous estimate of expected time.

Full administration of the survey is expected to be completed within one year, and therefore, burden hours are both total and annual estimates.

Table 3—Burden Estimates
NHSTA Form No. | Information collection | Number of respondents | Time per response (min) | Frequency of response | Time burden (hours)
1811 | Eligibility Questionnaire | 700 | 1 | 1 | 12
1812 | Informed Consent | 420 | 1 | 1 | 7
1813 | Full Questionnaire | 420 | 15 | 1 | 105
Annual Burden |  |  |  |  | 124

The annual burden for administration of the survey is 124 hours.

Estimated Annual Burden Cost: $0.

There is no cost to the respondents for this information collection. Respondents will not incur travel expenses nor be required to obtain equipment for completion of the survey.

Public Comments Invited: You are asked to comment on any aspect of this information collection, including (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29A.

Cem Hatipoglu,
Associate Administrator, Office of Vehicle Safety Research.

[FR Doc. 2025-07448 Filed 4-29-25; 8:45 am]

BILLING CODE 4910-59-P